DEPARTMENT OF ENERGY

Federal Energy Regulatory Commission

[Docket No. ER00-1520-004, et al.]

CP&L Holdings, Inc., et al.; Electric Rate and Corporate Regulation Filings

November 27, 2001.

Take notice that the following filings have been made with the Commission:

1. CP&L Holdings, Inc., et al.

[Docket Nos. ER00-1520-004, ER01-2966-000 and ER01-2966-002]

Take notice that on November 20, 2001, Progress Energy, Inc. (Progress Energy), on behalf of Carolina Power & Light Company (CP&L) and Florida Power Corporation (FPC), tendered for filing a revised rate schedule sheet (Revised Sheet) from Progress Energy's First Revised Rate Schedule FERC No. 1—System Integration Agreement (SIA) between CP&L and FPC in compliance with the Commission's Order issued in these dockets on November 7, 2001.

Progress Energy respectfully requests that the Revised Sheet become effective August 24, 2001.

Copies of the filing were served upon the Commission's official service list and the North Carolina Utilities Commission, the South Carolina Public Service Commission and the Florida Public Service Commission.

Comment date: December 11, 2001, in accordance with Standard Paragraph E at the end of this notice.

2. American Electric Power Service Corporation

[Docket No. ER01-2163-002]

Take notice that on November 20, 2001, American Electric Power Service Corporation tendered for filing with the Federal Energy Regulatory Commission (Commission) a refund report in compliance with the Commission's July 26, 2001 Order, 96 FERC ¶ 61,136.

Comment date: December 11, 2001, in accordance with Standard Paragraph E at the end of this notice.

3. Tenaska Georgia Partners, L.P.

[Docket No. ER01-2728-001]

Take notice that on November 21, 2001, Tenaska Georgia Partners, L.P. (Tenaska Georgia) tendered for filing a Refund Report detailing the calculation of the refunds provided by Tenaska Georgia to Exelon Power Team, formerly known as PECO Energy Company (Exelon), on October 26, 2001, for revenues collected under a Power Purchase Agreement between Tenaska Georgia and Exelon dated August 24, 1999, for the period the rate was charged Exelon without Commission authorization.

Comment date: December 12, 2001, in accordance with Standard Paragraph E at the end of this notice.

4. Avista Corporation

[Docket No. ER02-376-000]

Take notice that on November 20, 2001, Avista Corporation (Avista) tendered for filing with the Federal Energy Regulatory Commission (Commission) pursuant to 18 CFR 36.13, an executed Revised Generation Interconnection Agreement between Avista and Plummer Forest Products.

On August 28, 2001 in Docket No. ER01-2512-000, the Commission accepted for filing an interconnection agreement between Avista and Plummer Forest Products to become effective on April 30, 2001. Subsequently, Plummer Forest Products replaced its diesel generators with wood-fired steam generators. The revisions to the IA submitted in this filing consist of revisions to Exhibit J, the description of generation facilities to conform the change in facilities.

Avista is requesting an effective date of August 27, 2001.

Comment date: December 11, 2001, in accordance with Standard Paragraph E at the end of this notice.

5. American Electric Power Service Corporation

[Docket No. ER02-377-000]

Take notice that on November 20, 2001, American Electric Power Service Corporation tendered for filing an executed Letter Agreement between Indiana Michigan Power Company and Indeck-Niles, LLC.

AEP requests an effective date of January 19, 2002.

Copies of Indiana Michigan Power Company's filing have been served upon the Indiana Utility Regulatory Commission and Michigan Public Service Commission.

Comment date: December 11, 2001, in accordance with Standard Paragraph E at the end of this notice.

6. American Electric Power Service Corporation

[Docket No. ER02-378-000]

Take notice that on November 20, 2001, the American Electric Power Service Corporation (AEPSC) tendered for filing an executed Interconnection Agreement between Central Power and Light Company and BP Chemical Inc. The agreement is pursuant to the AEP Companies' Open Access Transmission Service Tariff (OATT) that has been designated as the Operating Companies of the American Electric Power System FERC Electric Tariff Second Revised Volume No. 6, effective June 15, 2000.

AEP requests an effective date of January 19, 2002.

Copies of this filing has been served upon BP Chemical Inc. and the Public Utility Commission of Texas.

Comment date: December 11, 2001, in accordance with Standard Paragraph E at the end of this notice.

7. Western Resources, Inc.

[Docket No. ER02-379-000]

Take notice that on November 20, 2001, Western Resources, Inc.'s (WR's) filed a Notice of Termination of its Market Based Rate Tariff Agreement with the Allegheny Energy Service Corporation, American Electric Power Service Corp., Arizona Public Service Company, Coral Power L.L.C., Engage Energy US, L.P., Otter Tail Power Company, Rainbow Energy Marketing Corporation, and The Board of Municipal Utilities of Sikeston, Missouri.

WR requests that the termination be made effective on November 19, 2001.

Notice of the proposed termination has been served upon Allegheny Energy Service Corporation, American Electric Power Service Corp., Arizona Public Service Company, Coral Power L.L.C., Engage Energy US, L.P., Otter Tail Power Company, Rainbow Energy Marketing Corporation, and The Board of Municipal Utilities of Sikeston, Missouri, and the Kansas Corporation Commission.

Comment date: December 11, 2001, in accordance with Standard Paragraph E at the end of this notice.

8. Tucson Electric Power Company

[Docket No. ER02-380-000]

Take notice that on November 20, 2001, Tucson Electric Power Company (Tucson) tendered for filing one (1) Umbrella Service Agreement (for short-term firm service) and one (1) Service Agreement (for non-firm service) pursuant to Part II of Tucson's Open Access Transmission Tariff, which was filed in Docket No. ER01-208-000.

The details of the service agreements are as follows:

Umbrella Agreement for Short-Term Firm Point-to-Point Transmission Service dated as of September 4, 2001 by and between Tucson Electric Power Company and BP Energy Company—FERC Electric Tariff Vol. No. 2, Service Agreement No. 189. No service has commenced at this time.

Form of Service Agreement for Non-Firm Point-to Point Transmission Service dated as of September 4, 2001 by and between Tucson Electric Power Company BP Energy Company—FERC Electric Tariff Vol. No. 2, Service Agreement No. 190. No service has commenced at this time.

Tucson requests an effective date of November 1, 2001

Comment date: December 11, 2001, in accordance with Standard Paragraph E at the end of this notice.

9. Southwestern Electric Power Company

[Docket No. ER02-381-000]

Take notice that on November 20, 2001, Southwestern Electric Power Company (SWEPCO) filed a Restated and Amended Power Supply Agreement (Restated Agreement) between SWEPCO and Northeast Texas Electric Cooperative, Inc. (NTEC). The Restated Agreement supersedes in its entirety the Restated and Amended Power Supply Agreement, dated June 30, 1997, as amended, between SWEPCO and NTEC.

SWEPCO seeks an effective date of June 15, 2000.

Copies of the filing have been served on NTEC and on the Public Utility Commission of Texas.

Comment date: December 11, 2001, in accordance with Standard Paragraph E at the end of this notice.

10. Tampa Electric Company

[Docket No. ER02-382-000]

Take notice that on November 21, 2001, Tampa Electric Company (Tampa Electric) filed a notice of cancellation of its service agreements with Enron Power Marketing, Inc. (Enron) for firm point-to-point transmission service and non-firm point-to-point transmission service under Tampa Electric's open access transmission tariff.

Tampa Electric proposes that the cancellation be made effective on November 21, 2001.

Copies of the filing have been served on Enron and the Florida Public Service Commission.

Comment date: December 12, 2001, in accordance with Standard Paragraph E at the end of this notice.

11. Louisville Gas And Electric Company

[Docket No. ER02-383-000]

Take notice that on November 21, 2001, EL Paso Merchant Energy L.P. (previously known as Sonat Power Marketing, L.P.) filed a termination notice for generation sales service with Louisville Gas and Electric Company. The terminated services are FERC Electric Tariff Original Volume 1 for Generation Sales Service Agreement 601 accepted by the Commission in Docket ER98-1689-000 on January 9, 1998.

Comment date: December 12, 2001, in accordance with Standard Paragraph E at the end of this notice.

12. Avista Corp.

[Docket No. ER02-384-000]

Take notice that on November 21, 2001, Avista Corporation (AVA) tendered for filing with the Federal Energy Regulatory Commission (Commission) executed Service Agreements for Short-Term Firm and Non-Firm and Point-To-Point Transmission Service under AVA's Open Access Transmission Tariff—FERC Electric Tariff, Volume No. 8 with Allegheny Energy Supply Company, LLC.

AVA requests the Service Agreements be given an effective date of June 26, 2001.

Comment date: December 12, 2001, in accordance with Standard Paragraph E at the end of this notice.

13. Allegheny Energy Service Corporation, on Behalf of The Potomac Edison Company dba Allegheny Power

[Docket No. ER02-385-000]

Take notice that on November 21, 2001, Allegheny Energy Service Corporation on behalf of The Potomac Edison Company, dba Allegheny Power (Allegheny Power), filed FERC Electric Tariff, Original Volume No. 7 (Rate Schedule) with Allegheny Energy Supply Company, LLC for wholesale sales of power. Allegheny Power has requested a waiver of notice to make the Rate Schedule effective on January 1, 2002.

Copies of the filing have been provided to the customer and to the Maryland Public Service Commission.

Comment date: December 12, 2001, in accordance with Standard Paragraph E at the end of this notice.

14. Wisconsin Electric Power Company

[Docket No. ER02-386-000]

Take notice that on November 21, 2001, Wisconsin Electric Power Company (Wisconsin Electric), tendered for filing an electric service agreement under its Market Rate Sales Tariff (FERC Electric Tariff, Original Volume No. 8) with PSEG Energy Resources & Trade LLC.

Wisconsin Electric respectfully requests an effective date of November 9, 2001 to allow for economic transactions.

Copies of the filing have been served on PSEG Energy Resources & Trade LLC, the Michigan Public Service Commission, and the Public Service Commission of Wisconsin.

Comment date: December 12, 2001, in accordance with Standard Paragraph E at the end of this notice.

15. Xcel Energy Services Inc.

[Docket No. ER02-387-000]

Take notice that on November 21, 2001, Xcel Energy Services Inc. (XES), on behalf of Southwestern Public Service Company (Southwestern), submitted for filing a Transaction Agreement between Southwestern and Oklahoma Gas and Electric Company.

XES requests that this agreement become effective on January 1, 2002.

Comment date: December 12, 2001, in accordance with Standard Paragraph E at the end of this notice.

16. HC Power Marketing LLC

[Docket No. ER02-388-000]

Take notice that on November 21, 2001, HC Power Marketing LLC (Seller) petitioned the Commission for an order: (1) Accepting Seller's proposed FERC rate schedule for market-based rates; (2) granting waiver of certain requirements under Subparts B and C of Part 35 of the regulations; (3) granting the blanket approvals normally accorded sellers permitted to sell at market-based rates; and (4) granting waiver of the 60-day notice period.

Comment date: December 12, 2001, in accordance with Standard Paragraph E at the end of this notice.

17. Commonwealth Edison Company

[Docket No. ER02-389-000]

Take notice that on November 21, 2001, Commonwealth Edison Company (ComEd) filed an executed interconnection agreement with Indeck-Rockford II, L.L.C. enabling a new generation project near Rockford, Illinois to connect to ComEd's transmission system.

ComEd requests an effective date of November 22, 2001 for this agreement.

Comment date: December 12, 2001, in accordance with Standard Paragraph E at the end of this notice.

18. Commonwealth Edison Company

[Docket No. ER02-390-000]

Take notice that on November 21, 2001, Commonwealth Edison Company (ComEd) filed an executed interconnection agreement with Titan Land Development Company, L.L.C. enabling a new generation project near Pontiac, Illinois to connect to ComEd's transmission system.

ComEd requests an effective date of November 22, 2001 for this agreement.

Comment date: December 12, 2001, in accordance with Standard Paragraph E at the end of this notice.

19. Commonwealth Edison Company

[Docket No. ER02-391-000]

Take notice that on November 21, 2001, Commonwealth Edison Company (ComEd) filed an executed interconnection agreement with Indeck-Bourbonnaise, L.L.C. enabling a new generation project near Bourbonnaise, Illinois to connect to ComEd's transmission system.

ComEd requests an effective date of November 22, 2001 for this agreement.

Comment date: December 12, 2001, in accordance with Standard Paragraph E at the end of this notice.

20. Commonwealth Edison Company

[Docket No. ER02-392-000]

Take notice that on November 21, 2001, Commonwealth Edison Company (ComEd) filed an executed interconnection agreement with Kendall New Century Development, L.L.C. enabling a new generation project near Yorkville, Illinois to connect to ComEd's transmission system.

ComEd requests an effective date of November 22, 2001 for this agreement.

Comment date: December 12, 2001, in accordance with Standard Paragraph E at the end of this notice.

21. New England Power Company

[Docket No. ER02-393-000]

Take notice that on November 21, 2001, New England Power Company (NEP) submitted for filing Original Service Agreement No. 208 for Network Integration Transmission Service under NEP's Open Access Transmission Tariff, FERC Electric Tariff, Second Revised Volume No. 9 between NEP and Public Service Company of New Hampshire (PSNH).

NEP states that a copy of this filing has been served upon PSNH and regulators in the State of New Hampshire.

Comment date: December 12, 2001, in accordance with Standard Paragraph E at the end of this notice.

22. International Transmission Company

[Docket No. ER02-394-000]

Take notice that on November 21, 2001, International Transmission Company filed an amendment to the joint open access transmission tariff.

Comment date: December 12, 2001, in accordance with Standard Paragraph E at the end of this notice.

23. Wisconsin Electric Power Company

[Docket No. ER02-395-000]

Take notice that on November 21, 2001, Wisconsin Electric Power Company (Wisconsin Electric) tendered for filing pursuant to section 35.12 of the Commission's regulations, 18 CFR 35.12, a Dynamic Scheduling Service Agreement between Wisconsin Electric and WPS Energy Services, Inc. (WPS Energy) for the provision of dynamic scheduling service to WPS Energy beginning October 15, 2001.

Comment date: December 12, 2001, in accordance with Standard Paragraph E at the end of this notice.

24. Wisconsin Electric Power Company

[Docket No. ER02-396-000]

Take notice that on November 21, 2001, Wisconsin Electric Power Company (Wisconsin Electric) tendered for filing pursuant to section 35.13 of the Commission's regulations, 18 CFR 35.13, a Control Area Operations Coordination Agreement between Wisconsin Electric and Wisconsin Power & Light Company.

Wisconsin Electric requests that the agreement be made effective on January 1, 2001.

Comment date: December 12, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29940 Filed 12-3-01; 8:45 am]

BILLING CODE 6717-01-P